DEPARTMENT OF COMMERCE

National Oceanic and Atmospheric Administration

[RTID 0648-XE524]

Endangered Species; File No. 28262

AGENCY: National Marine Fisheries Service (NMFS), National Oceanic and Atmospheric Administration (NOAA), Commerce.

ACTION: Notice; withdrawal of application.

SUMMARY: Notice is hereby given that Kori Johnsen, 1792 Harrison Avenue, Melbourne, FL 32935, has withdrawn their application for a permit to conduct research on green (Chelonia mydas), hawksbill (Eretmochelys imbricata), and Kemp's ridley (Lepidochelys kempii) sea turtles.

ADDRESSES: The application and related documents are available for review upon written request via email to NMFS.Pr1Comments@noaa.gov.

FOR FURTHER INFORMATION CONTACT: Erin Markin, Ph.D., or Amy Hapeman, (301) 427-8401.

SUPPLEMENTARY INFORMATION: On September 9, 2024, notice was published in the Federal Register (89 FR 73069) that a request for a permit to conduct research on green, hawksbill, and Kemp's ridley sea turtles had been submitted by the above-named applicant. The applicant has withdrawn the application from further consideration.

Dated: December 5, 2024.
Julia M. Harrison,
Chief, Permits and Conservation Division, Office of Protected Resources, National Marine Fisheries Service.

[FR Doc. 2024-29063 Filed 12-10-24; 8:45 am]

BILLING CODE 3510-22-P